DEPARTMENT OF ENERGY

Federal Energy Regulatory Commission

[Docket No. RP03-398-004]

Northern Natural Gas Company; Notice of Compliance Filing

November 25, 2003.

Take notice that on November 21, 2003, Northern Natural Gas Company (Northern), tendered for filing in its FERC Gas Tariff, Fifth Revised Volume No. 1, the following tariff sheets, with an effective date of November 1, 2003:

Substitute Third Revised Sheet No. 125A

Substitute Seventh Revised Sheet No. 226

Fourth Revised Sheet No. 227

Third Revised Sheet No. 228

Original Sheet No. 228A

First Revised Sheet No. 229

Eighth Revised Sheet No. 252

Eighth Revised Sheet No. 267

Substitute Original Sheet No. 267A

Substitute Seventh Revised Sheet No. 268

Sixth Revised Sheet No. 269

Substitute Fourth Revised Sheet No. 285

Substitute First Revised Sheet No. 285A

Substitute Fifth Revised Sheet No. 297

Northern states that the filing is being made in compliance with the Commission's order issued on October 31, 2003 in this proceeding, related to tariff provisions with respect to the technical conference in Northern's on going rate case proceeding.

Northern further states that copies of the filing have been mailed to each of its customers and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00425 Filed 12-2-03; 8:45 am]

BILLING CODE 6717-01-P